ENVIRONMENTAL PROTECTION AGENCY

[ER-FRL-9032-9]

Environmental Impact Statements; Notice of Availability

Responsible Agency: Office of Federal Activities, General Information (202) 564-7146 or http://www.epa.gov/nepa.

Weekly receipt of Environmental Impact Statements (EISs)

Filed 04/24/2017 Through 04/28/2017

Pursuant to 40 CFR 1506.9.

Notice

Section 309(a) of the Clean Air Act requires that EPA make public its comments on EISs issued by other Federal agencies. EPA's comment letters on EISs are available at: http://www.epa.gov/compliance/nepa/eisdata.html.

EIS No. 20170069, Final Supplement, FHWA, VA, Hampton Roads Crossing Study, Review Period Ends: 06/05/2017, Contact: Edward Sundra 804-775-3357.

EIS No. 20170071, Draft, FHWA, CA, US 50/South Shore Community Revitalization Project, Comment Period Ends: 07/06/2017, Contact: Scott McHenry 916-498-5854.

EIS No. 20170072, Draft, USFS, CA, Pine Mountain Late-Successional Reserve Habitat Protection and Enhancement, Comment Period Ends: 06/19/2017, Contact: April Hargis 707-275-1410.

EIS No. 20170073, Draft, USACE, NC, Bogue Banks Master Beach Nourishment Plan, Comment Period Ends: 06/19/2017, Contact: Mickey Sugg 910-251-4811.

Amended Notices

EIS No. 20130360, Final, USFS, AZ, Rosemont Copper Project, Proposed Construction, Operation with Concurrent Reclamation and Closure of an Open-Pit Copper Mine, Review Period Ends: 06/05/2017, Contact: Mindy Vogel 520-388-8300.

Revision to FR Notice Published 01/03/2014; The U.S. Forest Service is reopening the Review Period to end 06/05/2017.

Dated: May 2, 2017.
Dawn Roberts,
Management Analyst, NEPA Compliance Division, Office of Federal Activities.

[FR Doc. 2017-09165 Filed 5-4-17; 8:45 am]

BILLING CODE 6560-50-P